DEPARTMENT OF TRANSPORTATION

Federal Aviation Administration

14 CFR Part 39

[Docket No. FAA-2014-0219; Directorate Identifier 2014-NE-04-AD; Amendment 39-17939; AD 2014-16-15]

RIN 2120-AA64

Airworthiness Directives; Turbomeca S.A. Turboshaft Engines

AGENCY: Federal Aviation Administration (FAA), DOT.

ACTION: Final rule.

SUMMARY: We are adopting a new airworthiness directive (AD) for certain Turbomeca S.A. Makila 2A and Makila 2A1 turboshaft engines. This AD requires initial and repetitive visual inspections, and replacement of the splines of the high-pressure (HP) fuel pump/metering valve and the module M01 drive gear, if necessary. This AD was prompted by the failure of two HP fuel pumps that resulted in engine in-flight shutdowns. We are issuing this AD to prevent failure of the HP fuel pump, which could lead to an in-flight shutdown, damage to the engine, and forced landing or accident.

DATES: This AD becomes effective September 19, 2014.

ADDRESSES: For service information identified in this AD, contact Turbomeca, S.A., 40220 Tarnos, France; phone: 33 (0)5 59 74 40 00; telex: 570 042; fax: 33 (0)5 59 74 45 15. You may view this service information at the FAA, Engine & Propeller Directorate, 12 New England Executive Park, Burlington, MA. For information on the availability of this material at the FAA, call 781-238-7125.

Examining the AD Docket

You may examine the AD docket on the Internet at http://www.regulations.gov by searching for and locating Docket No. FAA-2014-0219; or in person at the Docket Management Facility between 9 a.m. and 5 p.m., Monday through Friday, except Federal holidays. The AD docket contains this AD, the mandatory continuing airworthiness information (MCAI), the regulatory evaluation, any comments received, and other information. The address for the Docket Office (phone: 800-647-5527) is Document Management Facility, U.S. Department of Transportation, Docket Operations, M-30, West Building Ground Floor, Room W12-140, 1200 New Jersey Avenue SE., Washington, DC 20590.

FOR FURTHER INFORMATION CONTACT: Katheryn Malatek, Aerospace Engineer, Engine Certification Office, FAA, Engine & Propeller Directorate, 12 New England Executive Park, Burlington, MA 01803; phone: 781-238-7747; fax: 781-238-7199; email: Katheryn.malatek@faa.gov.

SUPPLEMENTARY INFORMATION:

Discussion

We issued a notice of proposed rulemaking (NPRM) to amend 14 CFR part 39 by adding an AD that would apply to the specified products. The NPRM was published in the Federal Register on May 12, 2014 (79 FR 26905). The NPRM proposed to correct an unsafe condition for the specified products. The MCAI states:

Two uncommanded in-flight shutdowns on Makila 2A/2A1 engines have been reported. The results of the technical investigations concluded that these events were caused by deterioration of the splines on the high-pressure (HP) fuel pump drive link, which eventually interrupted the fuel supply to the engine.

This condition, if not detected and corrected, could lead to further cases of uncommanded engine in-flight shutdown, and may ultimately lead to an emergency landing.

Comments

We gave the public the opportunity to participate in developing this AD. We received no comments on the NPRM (79 FR 26905, May 12, 2014).

Conclusion

We reviewed the available data and determined that air safety and the public interest require adopting this AD as proposed.

Costs of Compliance

We estimate that this AD affects 8 engines installed on helicopters of U.S. registry. We also estimate that it will take about 2 hours per engine to comply with this AD. The average labor rate is $85 per hour. Required parts cost about $750 per engine. Based on these figures, we estimate the cost of this AD on U.S. operators to be $1,360.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

(1) Is not a “significant regulatory action” under Executive Order 12866,

(2) Is not a “significant rule” under the DOT Regulatory Policies and Procedures (44 FR 11034, February 26, 1979),

(3) Will not affect intrastate aviation in Alaska to the extent that it justifies making a regulatory distinction, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2014-16-15 Turbomeca S.A.: Amendment 39-17939; Docket No. FAA-2014-0219; Directorate Identifier 2014-NE-04-AD.

(a) Effective Date

This AD becomes effective September 19, 2014.

(b) Affected ADs

None.

(c) Applicability

This AD applies to Turbomeca S.A. Makila 2A and Makila 2A1 turboshaft engines with a high-pressure (HP) fuel pump, part number (P/N) 0 298 91 806 0 or P/N 0 298 91 805 0, installed, that have not incorporated Turbomeca modification TU 59.

(d) Reason

This AD was prompted by the failure of two HP fuel pumps that resulted in engine in-flight shutdowns. We are issuing this AD to prevent failure of the HP fuel pump, which could lead to an in-flight shutdown, damage to the engine, and forced landing or accident.

(e) Actions and Compliance

Comply with this AD within the compliance times specified, unless already done.

(1) Within 25 flight hours (FHs) or 6 months after the effective date of this AD, whichever occurs earlier, clean and visually inspect the splines of the HP fuel pump/metering valve and the module M01 drive gear for wear, corrosion, scaling, pitting, and chafing.

(2) Thereafter, reinspect every 100 FHs since-last-inspection.

(3) If the HP fuel pump/metering valve or the module M01 drive gear fails the inspection required by this AD, replace it with a part eligible for installation before further flight.

(4) After the effective date of this AD, do not install any HP fuel pump, HP fuel pump drive shaft, module M01 drive gear, or module M01 77-tooth gear onto any engine, or install any engine onto any helicopter, unless the HP fuel pump/metering valve and the module M01 drive gear passed the inspection required by paragraph (e) of this AD.

(f) Alternative Methods of Compliance (AMOCs)

The Manager, Engine Certification Office, FAA, may approve AMOCs to this AD. Use the procedures found in 14 CFR 39.19 to make your request.

(g) Related Information

(1) For more information about this AD, contact Katheryn Malatek, Aerospace Engineer, Engine Certification Office, FAA, Engine & Propeller Directorate, 12 New England Executive Park, Burlington, MA 01803; phone: 781-238-7747; fax: 781-238-7199; email: Katheryn.malatek@faa.gov.

(2) Refer to MCAI European Aviation Safety Agency (EASA) AD 2014-0059, dated March 10, 2014, and EASA AD 2014-0059R1, dated April 15, 2014, for more information. You may examine the MCAIs in the AD docket on the Internet at http://www.regulations.gov/#!documentDetail;D=FAA-2014-0219-0003.

(3) Turbomeca S.A. Mandatory Service Bulletin No. 298 73 2818, Version F, dated March 5, 2014, which is not incorporated by reference in this AD, can be obtained from Turbomeca S.A., using the contact information in paragraph (g)(4) of this AD.

(4) For service information identified in this AD, contact Turbomeca, S.A., 40220 Tarnos, France; phone: 33 (0)5 59 74 40 00; telex: 570 042; fax: 33 (0)5 59 74 45 15.

(5) You may view this service information at the FAA, Engine & Propeller Directorate, 12 New England Executive Park, Burlington, MA. For information on the availability of this material at the FAA, call 781-238-7125.

(h) Material Incorporated by Reference

None.

Issued in Burlington, Massachusetts, on August 6, 2014.
Colleen M. D'Alessandro,
Assistant Directorate Manager, Engine & Propeller Directorate, Aircraft Certification Service.

[FR Doc. 2014-19228 Filed 8-14-14; 8:45 am]

BILLING CODE 4910-13-P